FEDERAL MARITIME COMMISSION

Ocean Transportation Intermediary License; Revocation

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 016769N.

Name: Galaxy Shipping Company, Inc.

Address: 304 Queens Gate Court, Las Vegas, NV 89145.

Date Revoked: October 31, 2010.

Reason: Failed to maintain a valid bond.

License Number: 017572F.

Name: Impex of Doral Logistics, Inc.

Address: 7850 N.W. 80th Street, Unit 3, Medley, FL 33166.

Date Revoked: October 30, 2010.

Reason: Failed to maintain a valid bond.

License Number: 018516N.

Name: K.E.I. Enterprise dba KEI Logix.

Address: 1815 West 250th Street, Suite 306, Torrance, CA 90501.

Date Revoked: October 30, 2010.

Reason: Failed to maintain a valid bond.

License Number: 019813N.

Name: Cross Country Van Lines, LLC.

Address: 450 Murray Hill Parkway, Unit E, East Rutherford, NJ 07073.

Date Revoked: October 30, 2010.

Reason: Failed to maintain a valid bond.

License Number: 021600F.

Name: LTH Logistics, Inc. dba LTH Express.

Address: 837 East Sandhill Avenue, Carson, CA 90746.

Date Revoked: October 30, 2010.

Reason: Failed to maintain a valid bond.

License Number: 021890N.

Name: Empire Global Logistics, LLC.

Address: 160-51 Rockaway Blvd., Suite 206, Jamaica, NY 11434.

Date Revoked: October 31, 2010.

Reason: Failed to maintain a valid bond.

License Number: 022146N.

Name: Premier Projects International, LLC.

Address: 24707 W. Hardy Road, Spring, TX 77373.

Date Revoked: October 27, 2010.

Reason: Surrendered license voluntarily.

Sandra L. Kusumoto,
Director, Bureau of Certification and Licensing.

[FR Doc. 2010-29714 Filed 11-24-10; 8:45 am]

BILLING CODE 6730-01-P